DEPARTMENT OF EDUCATION

Office of Special Education and Rehabilitative Services; Grant Applications Under Part D, Subpart 2 of the Individuals With Disabilities Education Act; Correction

AGENCY: Department of Education.

ACTION: Notice inviting applications for new awards for fiscal year (FY) 2000; correction.

SUMMARY: On April 28, 2000, a notice inviting applications for new awards under the Office of Special Education and Rehabilitative Services; Grant Applications under Part D, Subpart 2 of the Individuals with Disabilities Education Act was published in the Federal Register (65 FR 25156). The notice included an “Estimated Project Awards” section in the Parent Training and Information Centers priority that listed project award amounts for State awards, including Virgin Islands and American Samoa, and interim State awards (65 FR 25167). Information stating that other awards may also be made to authorized entities in Guam, the Commonwealth of the Northern Mariana Islands, and the freely associated States, was inadvertently omitted from this section. In addition, the notice contained a “chart” that provided closing dates and other information regarding the transmittal of applications for the Fiscal Year 2000 competitions. This notice will correct the “Estimated Project Awards” section and the “chart” (65 FR 25170) by including the following information, “Awards may also be made under the Parent Training and Information Centers competition (CFDA 84.328M) to authorized entities in Guam, the Commonwealth of the Northern Mariana Islands, and the freely associated States. However, maximum funding levels have not been specified.”

Note to applicants: Potential applicants should consult the statement of the final priority published on April 28, 2000 (65 FR 25156) to ascertain the substantive requirements for their applications.

Correction

1. In the Federal Register of April 28, 2000 (65 FR 25167), in the third column, after the listing “New York (Interim Awards)—$339,800” correct the “Estimated Project Awards” section by adding the following paragraph to read:

Awards may also be made under the Parent Training and Information Centers competition (CFDA 84.328M) to authorized entities in Guam, the Commonwealth of the Northern Mariana Islands, and the freely associated States. However, maximum funding levels have not been specified.

2. In the Federal Register of April 28, 2000 (65 FR 25170) correct footnote 1 of the chart to read as follows:

The Assistant Secretary rejects and does not consider an application that proposes a budget exceeding the amount listed for any single budget period of 12 months. Awards may also be made under the Parent Training and Information Centers competition (CFDA 84.328M) to authorized entities in Guam, the Commonwealth of the Northern Mariana Islands, and the freely associated States. However, maximum funding levels have not been specified.

FOR FURTHER INFORMATION CONTACT: For further information on this priority contact Debra Sturdivant, U.S. Department of Education, 400 Independence Avenue, SW, room 3317, Switzer Building, Washington, DC 20202-2641. FAX: (202) 205-8717 (FAX is the preferred method for requesting information). Telephone: (202) 205-8038. Internet: Debra_Sturdivant@ed.gov.

If you use a TDD you may call the Federal Information Relay Service (FIRS) at 1-800-877-8339.

Individuals with disabilities may obtain this document in an alternate format (e.g., Braille, large print, audiotape, or computer diskette) on request to the contact person listed in the preceding paragraph.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC. area at (202) 512-1530.

Note: The official version of this document is the document published in the Federal Register. Free Internet access to the official edition of the Federal Register and the Code of Federal Regulations is available on GPO Access at: http://www.access.gpo.gov/nara/index.html

Dated: May 11, 2000.
Judith E. Heumann,
Assistant Secretary for Special Education and Rehabilitative Services.

[FR Doc. 00-12371 Filed 5-16-00; 8:45 am]

BILLING CODE 4000-01-P